ENVIRONMENTAL PROTECTION AGENCY

[OW-FRL-9245-6]

Beaches Environmental Assessment and Coastal Health Act

AGENCY: Environmental Protection Agency (EPA).

ACTION: Notice of Availability of 2011 BEACH Act Grants.

SUMMARY: Section 406(b) of the Clean Water Act (CWA) as amended by the Beaches Environmental Assessment and Coastal Health (BEACH) Act authorizes EPA to award program development and implementation grants to eligible states, territories, tribes, and local governments to support microbiological monitoring and public notification of the potential for exposure to disease-causing microorganisms in coastal recreation waters, including the Great Lakes. EPA encourages coastal and Great Lakes states and tribes that have received BEACH Act grants in the past to apply for 2011 BEACH Act grants to implement effective coastal recreation water monitoring and public notification programs (“implementation grants”). EPA also encourages eligible tribes that have not previously received BEACH Act grants to apply for 2011 BEACH Act grants to develop effective and comprehensive coastal recreation water monitoring and public notification programs (“development grants”).

DATES: States, Erie County, Pennsylvania, and tribes that previously received BEACH Act grants must submit applications on or before February 28, 2011. Other eligible tribes should notify the relevant EPA Regional BEACH Act grant coordinator of their interest in applying for a grant on or before February 14, 2011. Upon receipt of a tribe's notice of interest, EPA will establish an appropriate application deadline.

ADDRESSES: You must send your application to the appropriate EPA Regional grant coordinator listed in this notice under Section VII, Grant Coordinators.

FOR FURTHER INFORMATION CONTACT: Lars Wilcut, 1200 Pennsylvania Ave., NW., (4305T), Washington, DC 20460. Telephone: (202) 566-0447. E-mail: wilcut.lars@epa.gov.

SUPPLEMENTARY INFORMATION:

I. Background

What is the BEACH Act?

The Beaches Environmental Assessment and Coastal Health (BEACH) Act of 2000 amends the Clean Water Act to better protect public health at our nation's beaches through improved water quality standards and beach monitoring and notification programs. The BEACH Act authorizes EPA to award grants to develop and implement monitoring and public notification programs for coastal recreation waters, consistent with EPA's required performance criteria. EPA published the required performance criteria for grants in its National Beach Guidance and Required Performance Criteria for Grants (EPA-823-B-02-004), on July 19, 2002. Currently, all 37 eligible states and tribes operate beach monitoring and notification programs using BEACH Act grant funds.

What is the statutory authority for BEACH Act grants?

The general statutory authority for BEACH Act grants is section 406(b) of the Clean Water Act, as amended by the BEACH Act, Public Law 106-284, 114 Stat. 970 (2000). It provides that, “(T)he Administrator may make grants to States and local governments to develop and implement programs for monitoring and notification for coastal recreation waters adjacent to beaches or similar points of access that are used by the public.” CWA section 406(b)(2)(A), however, limits EPA's ability to award implementation grants only to those states and tribes that meet certain requirements (see Section II, Funding and Eligibility, below for information on specific requirements).

What activities are eligible for funding under the FY 2011 grants?

In fiscal year 2011, EPA intends to award grants authorized under CWA section 406(b) to eligible states and tribes to support the implementation of coastal recreation water monitoring and public notification programs that are consistent with EPA's required performance criteria for implementation grants. Also in fiscal year 2011, EPA intends to award development grants to eligible tribes to support the development of coastal recreation water monitoring and public notification programs that are consistent with EPA's performance criteria for grants. EPA published the required performance criteria for grants in its National Beach Guidance and Required Performance Criteria for Grants (EPA-823-B-02-004), on July 19, 2002. This document can be found on EPA's Web site at http://water.epa.gov/grants_funding/beachgrants/guidance_index.cfm. Copies of the document may also be obtained by writing, calling, or e-mailing: Office of Water Resource Center, U.S. Environmental Protection Agency, Mail Code RC-4100T, 1200 Pennsylvania Avenue, NW., Washington, DC 20460. (Phone: 202-566-1731 or e-mail: center.water-resource@epa.gov).

II. Funding and Eligibility

Who is eligible to apply for BEACH Act grants?

Coastal and Great Lake states that meet the requirements of CWA section 406(b)(2)(A) are eligible for grants in fiscal year 2011 to implement monitoring and notification programs. The definition of the term “state” in CWA section 502 includes the District of Columbia, and current U.S. territories: the Commonwealth of Puerto Rico, the Virgin Islands, Guam, American Samoa, and the Commonwealth of the Northern Mariana Islands. Tribes may also be eligible for BEACH Act grants. In order to be eligible, a tribe must have coastal recreation waters adjacent to beaches or similar points of access that are used by the public, and the tribe must demonstrate that it meets the “treatment in the same manner as a state” criteria in CWA section 518(e) for the purposes of receiving a section 406 BEACH Act grant.

Are local governments eligible for funding?

CWA section 406(b)(2)(B) authorizes EPA to make a grant to a local government for implementation of a monitoring and notification program only if, after July 19, 2003, EPA determines that the state within which the local government has jurisdiction is not implementing a program that meets the requirements of CWA section 406(b), which includes a requirement that the program is consistent with the performance criteria in National Beach Guidance and Required Performance Criteria for Grants. EPA has awarded an implementation grant to Erie County, Pennsylvania, the local government implementing the beach monitoring and notification program for all of Pennsylvania's coastal recreation waters. Local governments may contact their EPA Regional Office for further information about BEACH Act grants.

How may tribes apply for BEACH Act development grants and how much funding is available for tribes?

Section 518(e) of the CWA authorizes EPA to treat eligible Indian tribes in the same manner as states for the purpose of receiving CWA section 406 grant funding. For fiscal year 2011, EPA will make $100,000 available to eligible tribes. In order to be eligible for a CWA section 406 development grant, a tribe must have coastal recreation waters adjacent to beaches or similar points of access that are used by the public. The phrase “coastal recreation waters” is defined in CWA section 502(21) to mean the Great Lakes and marine coastal waters (including coastal estuaries) that are designated under CWA section 303(c) for use for swimming, bathing, surfing, or similar water contact activities. The statute explicitly excludes from the definition inland waters and waters upstream of the mouth of a river or stream having an unimpaired natural connection with the open sea. In addition, a tribe must demonstrate that it meets the “treatment in the same manner as a state” (TAS) criteria contained in CWA section 518(e) for purposes of receiving a CWA section 406 grant. To demonstrate TAS, the tribe must show that it: (1) Is federally recognized; (2) has a governing body carrying out substantial governmental duties and powers; (3) will be exercising functions pertaining to waters within the reservation; and (4) is reasonably expected to be capable of carrying out the functions consistent with the CWA and all applicable regulations. EPA encourages those tribes with coastal recreation waters to contact their EPA Regional BEACH Act grant coordinator for further information regarding the application process as soon as possible.

Are there any additional eligibility requirements and grant conditions applicable to states and tribes?

Yes, there are additional eligibility requirements and grant conditions. First, CWA section 406(b)(2)(A) identifies eligibility requirements for implementation grants and CWA section 406(c) identifies conditions of receipt of a monitoring and notification grant. These requirements are discussed in the National Beach Guidance and Required Performance Criteria for Grants.

In addition, there are special reporting requirements for BEACH Act grants. See Section VI below.

How much funding is available?

For fiscal year 2011, the total available for BEACH Act grants is expected to be $9,900,000. EPA expects to award all but $100,000 to eligible states for implementation grants. EPA intends to award the remaining $100,000 to eligible tribes. If EPA does not award any grants to eligible tribes, EPA will redistribute the money to eligible states using the base allocation formula described below.

How will the funding for states be allocated?

For fiscal year 2011, EPA expects to award grants to all eligible states who apply for funding based on a grant allocation formula that combines the formula that the Agency originally developed in 2002 (“base allocation formula”) with a supplemental allocation formula introduced with the fiscal year 2010 grants (see 75 FR 1373, January 11, 2010).

How does EPA expect to allocate 2011 BEACH Act grant funds?

For 2011, the total available for BEACH Act grants is expected to be $9,900,000. Two tribes, the Grand Portage Band of Lake Superior Chippewa and the Makah Indian Nation, are expected to receive grants of $50,000 each (assuming no other grants are awarded to other eligible tribes), leaving $9,800,000 for grants to states and territories, $205,280 of which will be allocated using the supplemental allocation formula. Assuming all 35 states with coastal recreation waters apply and meet the statutory eligibility requirements for implementation grants (and have met the statutory grant conditions applicable to previously awarded section 406 grants), the allocation of the funds for year 2011 is expected to be:

For the state or territory of: | The year 2011 allocation is expected to be: | Portion of the total that is the supplemental allocation
Alabama | $268,000 | $5,628
Alaska | 154,000 | 4,183
American Samoa | 306,000 | 4,183
California | 524,000 | 9,888
Connecticut | 228,000 | 4,260
Delaware | 216,000 | 5,628
Florida | 539,000 | 11,257
Georgia | 293,000 | 6,997
Guam | 307,000 | 4,183
Hawaii | 331,000 | 8,443
Illinois | 249,000 | 5,705
Indiana | 209,000 | 2,814
Louisiana | 325,000 | 2,814
Maine | 260,000 | 5,628
Maryland | 276,000 | 7,074
Massachusetts | 263,000 | 8,443
Michigan | 288,000 | 9,811
Minnesota | 209,000 | 4,183
Mississippi | 262,000 | 4,183
New Hampshire | 209,000 | 4,260
New Jersey | 285,000 | 7,074
New York | 357,000 | 8,443
North Carolina | 311,000 | 8,443
Northern Marianas | 306,000 | 2,814
Ohio | 228,000 | 4,260
Oregon | 234,000 | 5,551
Pennsylvania | 227,000 | 4,260
Puerto Rico | 123,000 | 0
Rhode Island | 220,000 | 6,997
South Carolina | 305,000 | 8,443
Texas | 392,000 | 8,443
U.S. Virgin Islands | 306,000 | 2,814
Virginia | 282,000 | 5,628
Washington | 277,000 | 6,920
Wisconsin | 231,000 | 5,628

What if a state does not apply or does not qualify for funding?

EPA expects that all 35 states and territories will apply for a grant. If fewer than 35 states apply for the allocated amount, or if any applicant fails to meet the statutory eligibility requirements (or the statutory conditions applicable to previously awarded section 406 grants), then EPA will distribute available grant funds to eligible states in the following order:

(1) States that meet the eligibility requirements for implementation grants and that have met the statutory conditions applicable to previously awarded section 406 grants will be awarded the full amount of funds allocated to the state under the formula described above.

(2) EPA may award program implementation grants to local governments in states that the Agency determines have not met the requirements for implementation grants.

(3) Consistent with CWA section 406(h), EPA will use grant funds to conduct a beach monitoring and notification program in the case of a state that has no program for monitoring and notification that is consistent with EPA's grant performance criteria.

What if a state or tribe cannot use all of its allocation?

If a state or tribe cannot use all of its allocation, the Regional Administrator may award the unused funds to any eligible coastal or Great Lake grant recipient in the Region for the continued development or implementation of its coastal recreation water monitoring and notification program. If, after re-allocation, there are still unused funds within the Region, EPA Headquarters will redistribute these funds to any eligible coastal or Great Lake BEACH Act grant recipient according to the supplemental formula described in the Federal Register notice announcing the availability of the fiscal year 2010 grants (75 FR 1373, January 11, 2010).

How will the funding for tribes be allocated?

EPA expects to apportion the $100,000 set aside for tribal grants evenly among all eligible tribes that apply for funding.

What is the expected duration of funding and projects?

The expected funding and project periods for implementation grants awarded in fiscal year 2011 is one year.

Does EPA require matching funds?

Recipients do not have to provide matching funds for BEACH Act grants. EPA retains the option to establish a match requirement in the future based on a review of state program activity and funding levels.

III. Eligible Activities

Recipients of implementation grants may use funds for activities to support implementing a beach monitoring and notification program that is consistent with the required performance criteria for grants specified in the document, National Beach Guidance and Required Performance Criteria for Grants (EPA-823-B-02-004). Recipients of development grants may use the funds to develop a beach monitoring and notification program consistent with the performance criteria. EPA expects that grantees will send a representative to EPA's National Beach Conference. Costs for attending this conference will be provided for in the grant agreement, if necessary, in accordance with 2 CFR part 225, Appendix B, Item 27.

IV. Selection Process

EPA Regional Offices will award CWA section 406 grants through a non-competitive process. EPA expects to award grants to all eligible state, tribal, and territorial applicants that meet the applicable requirements described in this notice.

Who has the authority to award BEACH Act grants?

The Administrator has delegated the authority to award BEACH Act grants to the Regional Administrators.

V. Application Procedure

What is the Catalog of Federal Domestic Assistance (CFDA) number for the BEACH Monitoring and Notification Program Implementation grants?

The number assigned to the BEACH Act grants is 66.472, Program Code CU.

Can BEACH Act grant funds be included in a Performance Partnership grant?

For fiscal year 2011, BEACH Act grants cannot be included in a Performance Partnership Grant.

What is the application process?

Your application package should contain completed:

• EPA SF-424 Application for Federal Assistance, and

• Program Summary.

In order for EPA to determine that a state or local government is eligible for an implementation grant, the applicant must submit documentation with its application to demonstrate that its program is consistent with the performance criteria. The Program Summary must contain sufficient technical detail for EPA to confirm that a program meets the statutory eligibility requirements and statutory grant conditions for previously awarded CWA section 406 grants referenced in Section II (Funding and Eligibility) of this notice. The Program Summary must also describe how the State or local government used BEACH Act grant funds to develop and implement the beach monitoring and notification program, and how the program is consistent with the nine performance criteria in National Beach Guidance and Required Performance Criteria for Grants (EPA-823-B-02-004) which is found at http://water.epa.gov/grants_funding/beachgrants/guidance_index.cfm.

The Program Summary should also describe the state or local program's objectives for the grant year and target dates and milestones for timely project completion.

States, Erie County, and tribes that have previously been awarded BEACH Act grants must submit application packages to the appropriate EPA Regional Office by February 28, 2011. EPA will make an award after the Agency reviews the documentation and confirms that the program meets the applicable requirements. The Office of Management and Budget has authorized EPA to collect this information (BEACH Act Grant Information Collection Request, OMB control number 2040-0244). Please contact the appropriate EPA Regional Office for a complete application package. See Section VII for a list of EPA Regional Grant Coordinators or visit the EPA Beaches Web site at http://water.epa.gov/type/oceb/beaches/contact.cfm.

What should a tribe's Notice of Interest contain?

The Notice of Interest should include the tribe's name and the name and telephone number of a contact person.

Are Quality Assurance and Quality Control (QA/QC) required for applications?

Yes. Three specific QA/QC requirements must be met to comply with EPA's performance criteria for grants:

(1) Applicants must submit documentation that describes the quality system implemented by the state, territory, tribe, or local government. Documentation may be in the form of a Quality Management Plan or equivalent documentation.

(2) Applicants must submit a quality assurance project plan (QAPP) or equivalent documentation.

(3) Applicants are responsible for submitting documentation of the quality system and QAPP for review and approval by the EPA Quality Assurance Officer or his designee before they take primary or secondary environmental measurements. More information about the required QA/QC procedures is available in Chapter Four and Appendix H of National Beach Guidance and Required Performance Criteria for Grants (EPA-823-B-02-004).

VI. Reporting Requirements and Applicable Regulations

Are there reporting requirements?

Recipients must submit annual performance reports and financial reports as required in 40 CFR 31.40 and 31.41. The annual performance report explains changes to the beach monitoring and notification program during the grant year. It also describes how the grant funds were used to implement the program to meet the performance criteria listed in National Beach Guidance and Required Performance Criteria for Grants (EPA-823-B-02-004). The annual performance report required under 40 CFR 31.40 is due no later than 90 days after the grant year ends.

There are also special reporting requirements for BEACH Act grants. First, state grant recipients must submit to EPA a report that describes (1) data collected as part of the program for monitoring and notification as described in section 406(c), and (2) actions taken to notify the public when water quality standards are exceeded. (See CWA section 406(b)(3)(A) and the National Beach Guidance and Required Performance Criteria for Grants.) Grant recipients must submit to EPA the monitoring and notification reports for any beach season by January 31 of the year following the beach season (68 FR 15446, 15449 (March 31, 2003)). For the 2011 beach season, the deadline for states to submit complete and correct reports is January 31, 2012.

In addition, grant recipients must report to EPA, latitude, longitude and mileage data on (1) the extent of beaches and similar points of public access adjacent to coastal recreation waters, and (2) the extent of those beaches that are monitored. EPA first established this requirement in the Federal Register notice for the fiscal year 2003 grants (68 FR 15446, 15447 (March 31, 2003)). EPA is continuing this requirement in order to capture any changes states, tribes, and local governments may make to their beach monitoring and notification programs. States, tribes, and local governments must report to EPA any changes to either the extent of their beaches or similar points of access, or to the extent of their beaches that are monitored.

As new predictive tools and methods of measuring water quality become more widespread, the ability to provide timely information to the public will increase. Coupled with improvements to the data submission process, it will be easier for states and EPA to make notification and water quality data available to the public. Therefore, EPA is considering requiring states to report to EPA more frequently than annually in the future. The Agency intends to review state and federal agency capabilities, resource constraints, and the impact of more frequent reporting, and make any necessary changes to the appropriate section of the National Beach Guidance and Performance Criteria. Any such changes would not affect reporting for the 2011 beach season.

What regulations apply to the award and administration of these grants?

The regulations at 40 CFR part 31 govern the award and administration of grants to states, tribes, local governments, and territories under CWA section 406(b). Allowable costs will be determined according to the cost principles outlined in 2 CFR part 225.

VII. Grant Coordinators

Headquarters—Washington, DC

Lars Wilcut, USEPA, 1200 Pennsylvania Ave., NW.—4305, Washington, DC 20460; T: 202-566-0447; F: 202-566-0409; wilcut.lars@epa.gov.

Region 1—Connecticut, Maine, Massachusetts, New Hampshire, Rhode Island

Caitlyn Whittle, USEPA Region 1, 5 Post Office Square Suite 100 (OEP06-1), Boston, MA 02109-3912; T: 617-918-1748; F: 617-918-0748; whittle.caitlyn@epa.gov.

Region 2—New Jersey, New York, Puerto Rico, U.S. Virgin Islands

Helen Grebe, USEPA Region 2, 2890 Woodbridge Ave. MS220, Edison, NJ 08837-3679; T: 732-321-6797; F: 732-321-6616; grebe.helen@epa.gov.

Region 3—Delaware, Maryland, Pennsylvania, Virginia

Denise Hakowski, USEPA Region 3, 1650 Arch Street 3WP30, Philadelphia, PA 19103-2029; T: 215-814-5726; F: 215-814-2318; hakowski.denise@epa.gov.

Region 4—Alabama, Florida, Georgia, Mississippi, North Carolina, South Carolina

Joel Hansel, USEPA Region 4, 61 Forsyth St. 15th Floor, Atlanta, GA 30303-3415; T: 404-562-9274; F: 404-562-9224; hansel.joel@epa.gov.

Region 5—Illinois, Indiana, Michigan, Minnesota, Ohio, Wisconsin

Holly Wirick, USEPA Region 5, 77 West Jackson Blvd. WT-16J, Chicago, IL 60604-3507; T: 312-353-6704; F: 312-886-0168; wirick.holiday@epa.gov.

Region 6—Louisiana, Texas

Mike Schaub, USEPA Region 6, 1445 Ross Ave. 6WQ-EW, Dallas, TX 75202-2733; T: 214-665-7314; F: 214-665-6689; schaub.mike@epa.gov.

Region 9—American Samoa, Commonwealth of the Northern Mariana Islands, California, Guam, Hawaii

Terry Fleming, USEPA Region 9, 75 Hawthorne St. WTR-2, San Francisco, CA 94105; T: 415- 972-3462; F: 415-947-3537; fleming.terrence@epa.gov.

Region 10—Alaska, Oregon, Washington

Rob Pedersen, USEPA Region 10, 120 Sixth Ave. OW-134, Seattle, WA 98101; T: 206-553-1646; F: 206-553-0165; pedersen.rob@epa.gov.

Dated: December 23, 2010.
Peter S. Silva,
Assistant Administrator for Water.

[FR Doc. 2010-32926 Filed 12-29-10; 8:45 am]

BILLING CODE 6560-50-P